DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 28, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: APHIS Credit Account and User Fee Programs.

OMB Control Number: 0579-0055.

Summary of Collection: The Food, Agriculture, Conservation and Trade Act of 1990, as amended, authorizes the Secretary of Agriculture and the Animal and Plant Health Inspection Service (APHIS) to prescribe and collect fees to cover the costs of providing certain agricultural quarantine, inspection, and veterinary diagnostics services. Reimbursable overtime fees may also be assessed for inspection services requested during non-duty hours. The Secretary is authorized to use the revenue to provide reimbursements to any appropriation accounts that incur costs associated with the services provided. The Debt Collection Improvement Act of 1996 authorizes the Agency to collect information from person(s) requesting to establish credit accounts with the U.S. government. APHIS charges the appropriate fees to respondents using billing information obtained from several APHIS documents.

Need and Use of the Information: APHIS will collect information from requests to establish credit accounts to conduct credit checks and to ensure credit worthiness prior to extending credit services. APHIS will also collect information required to identify fees associated with provided services, and to ensure that the correct amounts are collected and remitted in full in a timely manner. Without the information, APHIS would not be able to ensure substantial compliance with the statute. Noncompliance with the statute could result in misappropriation of public funds and lost revenue to the Federal Government.

Description of Respondents: Business or other for-profit; Individuals.

Number of Respondents: 144,209.

Frequency of Responses: Reporting: On occasion.

Total Burden Hours: 95,310.

Levi S. Harrell,
Departmental Information Collection Clearance Officer.

[FR Doc. 2024-01666 Filed 1-26-24; 8:45 am]

BILLING CODE 3410-34-P